DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC), National Center for Emerging and Zoonotic Infectious Diseases (NCEZID) announces a meeting of the aforementioned committee:

Time and Date: 1:00 p.m.-2:30 p.m., EDT, May 5, 2017.

Place: This meeting will be accessible by teleconference. Toll-free +1 (888) 469-1070, Participant Code: 3132529.

Status: Open to the public limited only by the availability of 200 telephone ports. To register for this call, please go to www.cdc.gov/hicpac.

Purpose: The Committee is charged with providing advice and guidance to the Director, Division of Healthcare Quality Promotion, the Director, National Center for Emerging and Zoonotic Infectious Diseases (NCEZID), the Director, CDC, the Secretary, Health and Human Services regarding (1) the practice of healthcare infection prevention and control; (2) strategies for surveillance, prevention, and control of infections, antimicrobial resistance, and related events in settings where healthcare is provided; and (3) periodic updating of CDC guidelines and other policy statements regarding prevention of healthcare-associated infections and healthcare-related conditions.

Matters for Discussion: The agenda will include a follow-up discussion on the Draft Recommendation Update for Chlorhexidine Impregnated Dressings. Call materials will be made available to the public no later than 2 business days before the call. If CDC is unable to post the background material on the HICPAC site prior to the meeting, the background material will be posted on HICPAC's Web site after the meeting. Background material is available at http://www.cdc.gov/hicpac.

Agenda items are subject to change as priorities dictate.

Contact Person for More Information: Erin Stone, M.A., HICPAC, Division of Healthcare Quality Promotion, NCEZID, CDC, 1600 Clifton Road NE., Mailstop A-31, Atlanta, Georgia 30333; Email: HICPAC@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-07594 Filed 4-13-17; 8:45 am]

BILLING CODE 4163-18-P